DEPARTMENT OF TRANSPORTATION

Research and Special Programs Administration

[Docket No. RSPA-2002-11270, Notice No. 02-6]

Safety Advisory: Unauthorized Marking of Compressed Gas Cylinders

AGENCY: Research and Special Programs Administration (RSPA), DOT.

ACTION: Safety advisory notice.

SUMMARY: This is to notify the public that the Department of Transportation is investigating the unauthorized marking of high- and low-pressure compressed gas cylinders, primarily fire extinguishers and self-contained breathing apparatuses, by Tech Fire and Safety, Inc. (Tech Fire). Tech Fire is located at 514 4th Street, Watervliet, NY 12189. In 2000, Research and Special Programs Administration (RSPA) conducted an investigation and evaluation of Tech Fire's DOT specification and exemption cylinder retesting procedures and determined that Tech Fire was not fit to conduct such retests. Consequently, RSPA terminated Tech Fire's approval to test DOT specification and exemption cylinders on October 2, 2001. RSPA subsequently received information that Tech Fire had continued to retest and mark DOT specification cylinders as properly tested in accordance with the Hazardous Materials Regulations (HMR) after its approval to retest had been revoked.

A hydrostatic retest and visual inspection, conducted as prescribed in the HMR, are used to verify the structural integrity of a cylinder. If the hydrostatic retest and visual inspection are not performed in accordance with the HMR, a cylinder with compromised structural integrity may be returned to service when it should be condemned. Extensive property damage, serious personal injury, or death could result from rupture of a cylinder. Cylinders not retested in accordance with the HMR may not be charged or filled with compressed gas or other hazardous material and offered for transportation in commerce. Only DOT-approved facilities are authorized to perform cylinder hydrostatic retesting.

FOR FURTHER INFORMATION CONTACT: Chris Michalski, Hazardous Materials Enforcement Specialist, Eastern Region, Office of Hazardous Materials Enforcement, Research and Special Programs Administration, U.S. Department of Transportation, 820 Bear Tavern Road, Suite 306, W. Trenton, NJ 08034. Telephone: (609) 989-2256, Fax: (609) 989-2277.

SUPPLEMENTARY INFORMATION: Through its previous investigations of Tech Fire, RSPA determined that Tech Fire demonstrated a history of non-compliance with the HMR and of improper retesting of cylinders. Based on this non-compliance, RSPA terminated Tech Fire's approval to restest DOT specification and exemption cylinders on October 2, 2001. Subsequently, RSPA was notified that Tech Fire had continued to represent cylinders as being properly retested in accordance with the HMR after its approval to conduct such retests was no longer valid.

The purpose of this safety advisory is to notify the public that Tech Fire is not authorized to retest DOT specification or exemption cylinders. Anyone who has a cylinder serviced by Tech Fire after October 2, 2001, should consider the cylinder unsafe and not fill it with a hazardous material unless the cylinder is first properly retested by a DOT-authorized retest facility.

Cylinders described in this safety advisory that are filled with an atmospheric gas should be vented or otherwise safely discharged. Cylinders that are filled with a material other than an atmospheric gas should not be vented, but instead should be safely discharged. Upon discharge, the cylinders should be taken to a DOT-authorized cylinder retest facility for proper retest to determine compliance with the HMR and to ensure their suitability for continuing service. The inspector can provide a list of authorized retest facilities in your area, or you may obtain the list at the following Web site: http://hazmat.dot.gov. Under no circumstances should a cylinder described in this safety advisory be filled, refilled or used for its intended purpose until it is reinspected and retested by a DOT-authorized retest facility.

Tech Fire's Retester Identification Number (RIN) was B753. The cylinders in question are stamped or labeled with RIN B753 in the following pattern:

B7
M Y
35

M is the month of retest (e.g., 10), and Y is the year of the retest (e.g., 01).

RSPA requests that any person possessing a cylinder described in this safety advisory telephone or provide a facsimile to Inspector Michalski with the following information for each cylinder: (1) The cylinder manufacturer's name, (2) the serial number of the cylinder, (3) the DOT specification or exemption information for the cylinder, and (4) the month and year of the last marked retest by Tech Fire.

Issued in Washington, D.C. on July 2, 2002.
Robert A. McGuire,
Associate Administrator for Hazardous Materials Safety.

[FR Doc. 02-16999 Filed 7-5-02; 8:45 am]

BILLING CODE 4910-60-P